DEPARTMENT OF ENERGY

Federal Energy Regulatory Commission

[Docket No. RP01-62-000]

Mississippi River Transmission Corporation; Notice of Realignment Costs

October 31, 2000.

Take notice that on October 24, 2000, pursuant to Section 16 3(g)(i) of Mississippi River Transmission Corporation's (MRT) General Terms and Conditions to its FERC Gas Tariff, MRT tendered for filing a statement related to the recovery of Gas Supply Realignment Costs (GSRC) for the period of November 1, 1998 through July 31, 2000.

Specifically, MRT states that according to Section 16.3(g)(1) MRT is required to file within 90 days of July 31, 2000 a reconciliation report, reflecting GSRC recovery and true-up for the period of November 1998 through July 2000. MRT states that MRT did not collect any GSRC during that time period, and that there is no recovery to report and reconcile. MRT further states it will file a report and reconcile the collection of the current GSRC recovery, effective September 1, 2000 through November 30, 2000 within 90 days of the termination of such recovery.

MRT states that a copy of this filing is being mailed to each of MRTs customers, all parties to the proceeding and to the state commissions of Arkansas, Illinois and Missouri.

Any person desiring to be heard or to protest said filing should file a motion to intervene or a protest with the Federal Energy Regulatory Commission, 888 First Street, NE., Washington, DC 20426, in accordance with Sections 385.214 or 385.211 of the Commission's Rules and Regulations. All such motions or protests must be filed on or before November 7, 2000. Protests will be considered by the Commission in determining the appropriate action to be taken, but will not serve to make protestants parties to the proceedings. Any person wishing to become a party must file a motion to intervene. Copies of this following are on file with the Commission and are available for public inspection in the Public Reference Room. This filing may be viewed on the web at http://www.ferc.fed.us/online/rims.htm (call 202-208-2222 for assistance).

Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28373 Filed 11-3-00; 8:45 am]

BILLING CODE 6717-01-M